U.S. DEPARTMENT OF COMMERCE

Foreign-Trade Zones Board

[Docket 1-2008]

Foreign-Trade Zone 22—Chicago, Illinois, Application for Subzone Euromarket Designs, Inc. d/b/a/ Crate & Barrel (Home Furnishings)

An application has been submitted to the Foreign-Trade Zones Board (the Board) by the Illinois International Port District, grantee of FTZ 22, requesting special-purpose subzone status for the home furnishings distribution and processing facilities of Euromarket Designs, Inc. d/b/a Crate and Barrel (Crate & Barrel), located in Naperville, Illinois. The application was submitted pursuant to the provisions of the Foreign-Trade Zones Act, as amended (19 U.S.C. 81a-81u), and the regulations of the Board (15 CFR part 400). It was formally filed on January 1, 2008.

The proposed subzone would include Crate & Barrel's facilities at two adjacent sites in Naperville, Illinois: Site 1 (one building/827,268 sq.ft./36 acres)—1860 West Jefferson Avenue; and Site 2 (one building/365,000 sq.ft./16 acres)—443 Fort Hill Drive. The facilities are used for warehousing, distribution and processing of both foreign-origin and domestic home furnishing goods for both the U.S. market and export. FTZ procedures would be used to support Crate & Barrel's Illinois-based distribution activity that competes with facilities abroad.

FTZ procedures would exempt Crate & Barrel from customs duty payments on foreign products that are re-exported. On domestic sales, duty payments would be deferred until the foreign merchandise is shipped from the facilities and entered for U.S. consumption. The company would also realize significant logistical benefits related to the use of direct delivery and weekly customs entry procedures. The application indicates that the savings from FTZ procedures would help improve the company's international competitiveness and help facilitate the company's plans to grow their export market.

In accordance with the Board's regulations, a member of the FTZ staff has been designated examiner to investigate the application and report to the Board.

Public comment is invited from interested parties. Submissions (original and 3 copies) shall be addressed to the Board's Executive Secretary at the address below. The closing period for their receipt is March 17, 2008. Rebuttal comments in response to material submitted during the foregoing period may be submitted during the subsequent 15-day period March 31, 2008.

A copy of the application and accompanying exhibits will be available at each of the following addresses: U.S. Department of Commerce Export Assistance Center, 200 West Adams Street, Suite 2450, Chicago, IL 60606; and, Office of the Executive Secretary, Foreign-Trade Zones Board, Room 2111, U.S. Department of Commerce, 1401 Constitution Ave, NW, Washington, D.C. 20230. For further information contact Christopher Kemp at christopher—kemp@ita.doc.gov or (202) 482-0862.

Dated: January 8, 2008.
Andrew McGilvray,
Executive Secretary.

[FR Doc. E8-552 Filed 1-14-08; 8:45 am]

BILLING CODE 3510-DS-S